DEPARTMENT OF ENERGY

Federal Energy Regulatory Commission

[Project No. 2197-073; Project No. 2206-030]

Alcoa Generating, Inc., NC; Progress Energy Carolinas, North Carolina; Notice of Availability of the Draft Environmental Impact Statement for the Yadkin Project and the Yadkin-Pee Dee River Project

September 28, 2007.

In accordance with the National Environmental Policy Act of 1969 and the Federal Energy Regulatory Commission's (Commission) regulations, 18 CFR part 380 (Order No. 486, 52 FR 47897), the Office of Energy Projects has reviewed the applications for relicense for the Yadkin Project (FERC No. 2197) and the Yadkin-Pee Dee River Project (FERC No. 2206), located on the Yadkin and Pee Dee rivers in central North Carolina near Charlotte, North Carolina and has prepared a Draft Environmental Impact Statement (draft EIS) for the projects.

The existing 210-megawatt (MW) Yadkin Project and the existing 108.6-MW Yadkin-Pee Dee River Project do not occupy any federal lands.

In the draft EIS, staff evaluates the applicants' proposals and alternatives for relicensing the projects. Staff's analysis includes evaluation of settlement agreements filed with the Commission for both projects which replaced the Proposed Actions originally filed with the license applications. The draft EIS documents the views of governmental agencies, non-governmental organizations, affected Indian tribes, the public, the license applicants, and Commission staff.

Comments should be filed with: Kimberly D. Bose, Secretary, Federal Energy Regulatory Commission, 888 First Street, NE., Washington, DC 20426. All comments must be filed within 60 days of the notice in the Federal Register, and should reference either Project No. 2197-073 (Yadkin Project) or Project No. 2206-030 (Yadkin-Pee Dee River Project). Comments may be filed electronically via the Internet in lieu of paper. The Commission strongly encourages electronic filings. See 18 CFR 385.2001(a)(1)(iii) and instructions on the Commission's Web site at http://www.ferc.gov under the eLibrary link.

Anyone may intervene in this proceeding based on this draft EIS (18 CFR 380.10). You may also file your request to intervene electronically. You do not need intervenor status to have the Commission consider your comments.

Copies of the draft EIS are available for review in the Commission's Public Reference Branch, Room 2A, located at 888 First Street, NE., Washington, DC 20426. The draft EIS also may be viewed on the Internet at http://www.ferc.gov under the eLibrary link. Enter the docket number (either P-2197 or P-2206) to access the document. For assistance, contact FERC Online Support at FERCOnlineSupport@ferc.gov or toll-free at 1-866-208-3676, or for TTY, (202) 502-8659.

CD versions of the draft EIS have been mailed to everone on the mailing list for the projects. Copies of the CD, as well as a limited number of paper copies, are available from the Public Reference Room identified above.

You may also register online at http://www.ferc.gov/docs-filing/esubscription.asp to be notified via e-mail of new filings and issuances related to these or other pending projects. For assistance, contact FERC Online Support.

For further information, contact Stephen Bowler at (202) 502-6861 or stephen.bowler@ferc.gov or Lee Emery at (202) 5028379 or lee.emery@ferc.gov.

Kimberly D. Bose,
Secretary.

[FR Doc. E7-19782 Filed 10-5-07; 8:45 am]

BILLING CODE 6717-01-P